DEPARTMENT OF LABOR

Employment and Training Administration

[OMB Control Number 1205-0NEW]

Agency Information Collection Activities; Emergency Request To Reinstate Prior Approved Forms Affecting the H-2A Temporary Agricultural Labor Certification Program and Agricultural Recruitment System

AGENCY: Employment and Training Administration, U.S. Department of Labor.

ACTION: General notice.

SUMMARY: The Department of Labor (DOL) will be submitting the following information collection request to the Office of Management and Budget (OMB) for emergency review and approval in accordance with the Paperwork Reduction Act of 1995 (PRA). DOL is requesting OMB approve this emergency revision by September 12.

SUPPLEMENTARY INFORMATION:

Overview of This Information Collection

Title: Reinstatement of Prior Approved Forms Affecting the H-2A Temporary Agricultural Labor Certification Program and Agricultural Recruitment System

OMB Number: 1205-0NEW

Abstract: DOL uses Form ETA-9142A and Forms ETA 790/790A to meet its statutory and regulatory responsibilities for administering the H-2A program. Similarly, DOL uses Forms ETA 790/790B to administer the Agricultural Recruitment System (ARS).

Employers seeking to use the H-2A program to employ nonimmigrant workers to perform agricultural services or labor on a temporary or seasonal basis must submit a completed agricultural clearance order (Forms ETA790/790A) and Application for Temporary Employment Certification (Form ETA 9142A) electronically through the Office of Foreign Labor Certification's Foreign Labor Application Gateway (FLAG) system. Employers seeking to employ U.S. workers through the ARS intrastate and interstate job clearance system must submit a completed agricultural clearance order (Forms ETA 790/790B) to the applicable State Workforce Agency.

The emergency PRA clearance requested will allow DOL to utilize prior approved Forms ETA 790, 790A, 790B, and 9142A, which is necessary to ensure continuity in administering the H-2A program and the ARS nationwide. Within the 6-month period following emergency approval, DOL will seek public comment on the information collection package as provided under 5 CFR part 1320 and the Paperwork Reduction Act.

José Javier Rodríguez,
Assistant Secretary for Employment and Training, Labor.

[FR Doc. 2024-20605 Filed 9-6-24; 4:15 pm]

BILLING CODE 4510-FP-P